DEPARTMENT OF TRANSPORTATION

Federal Aviation Administration

Fourth Drone Advisory Committee (DAC) Meeting

AGENCY: Federal Aviation Administration (FAA), U.S. Department of Transportation.

ACTION: Fourth DAC Meeting.

SUMMARY: The FAA is issuing this notice to advise the public of the Fourth DAC Meeting.

DATES: The meeting will be held on July 21, 2017, 11:00 a.m.-2:30 p.m. EDT.

ADDRESSES: The meeting will be held as a virtual meeting only. Contact RTCA for dial-in information.

FOR FURTHER INFORMATION CONTACT: Al Secen at asecen@rtca.org or 202-330-0647, or The RTCA Secretariat, 1150 18th Street NW., Suite 910, Washington, DC 20036, or by telephone at 202-833-9339, fax at 202-833-9434, or Web site at http://www.rtca.org.

SUPPLEMENTARY INFORMATION: Pursuant to section 10(a)(2) of the Federal Advisory Committee Act (Pub. L. 92-463, 5 U.S.C., App.), notice is hereby given of the Fourth DAC Meeting. The DAC is a component of RTCA, which is a Federal Advisory Committee. The agenda will likely include, but may not be limited to, the following:

Friday, July 21, 2017

• Official Statement of the Designated Federal Official

• Welcome and Introductions, Review of the Third DAC Meeting

• Approval of Minutes from the Third DAC Meeting

• Report out of DAC Subcommittee (SC) Task Group (TG) 3 (UAS Funding)

• Discussion of TG3 Recommendations

• Report out of DACSC TG1 (Roles and Responsibilities)

• Discussion of TG1 Recommendations

• New Assignments/Agenda Topics

• Adjourn

Attendance is open to the interested public. With the approval of the chairman, members of the public may present oral statements at the meeting. Persons wishing to present statements or obtain information should contact the person listed in the FOR FURTHER INFORMATION CONTACT section. Members of the public may present a written statement to the committee at any time.

Issued in Washington, DC, on June 20, 2017.
Christopher W. Harm,
Unmanned Aircraft Systems (UAS) Stakeholder and Committee Liaison, AUS-10, UAS Integration Office, FAA.

[FR Doc. 2017-13301 Filed 6-23-17; 8:45 am]

BILLING CODE 4910-13-P